SMALL BUSINESS ADMINISTRATION

[Disaster Declaration #16876 and #16877; Texas Disaster Number TX-00591]

Presidential Declaration Amendment of a Major Disaster for the State of Texas

AGENCY: U.S. Small Business Administration.

ACTION: Amendment 1.

SUMMARY: This is an amendment of the Presidential declaration of a major disaster for the State of Texas (FEMA-4586-DR), dated 02/19/2021.

Incident: Severe Winter Storms.

Incident Period: 02/11/2021 and continuing.

DATES: Issued on 02/22/2021.

Physical Loan Application Deadline Date: 04/20/2021.

Economic Injury (EIDL) Loan Application Deadline Date: 11/19/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Texas, dated 02/19/2021, is hereby amended to include the following areas as adversely affected by the disaster:

Primary Counties (Physical Damage and Economic Injury Loans): Anderson, Austin, Bosque, Bowie, Burnet, Cherokee, Colorado, Erath, Fannin, Freestone, Gonzales, Grayson, Gregg, Harrison, Hill, Houston, Hunt, Jackson, Jim Wells, Jones, Limestone, Lubbock, Medina, Milam, Navarro, Rusk, Taylor, Tom Green, Val Verde, Washington, Wood.

Contiguous Counties (Economic Injury Loans Only):

Texas: Cass, Coke, Concho, Crockett, Crosby, Delta, Duval, Edwards, Floyd, Franklin, Frio, Hale, Haskell, Hockley, Hopkins, Irion, Lamar, Lamb, Lynn, Menard, Reagan, Red River, Runnels, Schleicher, Sterling, Stonewall, Sutton, Terrell, Terry.

Arkansas: Little River, Miller.

Oklahoma: Bryan, Marshall, McCurtain.

All other information in the original declaration remains unchanged.

(Catalog of Federal Domestic Assistance Number 59008)

Cynthia Pitts,
Acting Associate Administrator for Disaster Assistance.

[FR Doc. 2021-04017 Filed 2-25-21; 8:45 am]

BILLING CODE 8026-03-P